NATIONAL FOUNDATION FOR THE ARTS AND THE HUMANITIES

Notice of Proposed Information Collection Requests: Heritage Health Index II on the State of America's Collections (HHI II)

AGENCY: Institute of Museum and Library Services, National Foundation for the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act (44 U.S.C. Chapter 35). This pre-clearance consultation program helps to ensure that requested data can be provided in the desired format, reporting burden (time and financial resources) is minimized, collection instruments are clearly understood, and the impact of collection requirements on respondents can be properly assessed. By this notice, IMLS is soliciting comments concerning a proposed survey to collect information to monitor the use, expectations of and satisfaction with cultural programs and services, most especially library and museum services.

A copy of the proposed information collection request can be obtained by contacting the individual listed below in the ADDRESSES section of this notice.

DATES: Written comments must be submitted to the office listed in the addressee section below on or before February 6, 2014. IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Christopher J. Reich, Senior Advisor, Institute of Museum and Library Services, 1800 M St. NW. 9th Floor, Washington, DC 20036. Mr. Reich can be reached by Telephone: 202-653-4685, Fax: 202-653-4608, or by email at creich@imls.gov, or by teletype (TTY/TDD) for persons with hearing difficulty at 202-653-4614.

SUPPLEMENTARY INFORMATION:

I. Background

The Institute of Museum and Library Services is the primary source of federal support for the Nation's 123,000 libraries and 17,500 museums. The Institute's mission is to inspire libraries and museums to advance innovation, learning and civic engagement. The Institute works at the national level and in coordination with state and local organizations to sustain heritage, culture, and knowledge; enhance learning and innovation; and support professional development. IMLS is responsible for identifying national needs for and trends in museum, library, and information services; measuring and reporting on the impact and effectiveness of museum, library and information services throughout the United States, including programs conducted with funds made available by IMLS; identifying, and disseminating information on, the best practices of such programs; and developing plans to improve museum, library and information services of the United States and strengthen national, State, local, regional, and international communications and cooperative networks (20 U.S.C. Chapter 72, 20 U.S.C. 9108).

II. Current Actions

The intention of the Heritage Health Index II on the State of America's Collections (HHI II) is to assess the state of preservation across the entire spectrum of collecting institutions, large and small, from internationally renowned art museums and research libraries to local historical societies and specialized archives. Conservation practices on all types of media will be covered, with a small number of questions about each topic included on the survey.

The purpose of this survey is to gather information on the state of collections care across cultural heritage organizations, including tracking trends and assessing the current state of digital conservation. The design of the HHI II will be a repeated cross-sectional web survey of U.S. cultural heritage organizations, which will yield a minimum of 3,000 cases.

The HHI II will include a core set of institutional and administrative questions (e.g., size, number of paid staff, number of visitors, governance, geographic area) as well as a core set of questions grouped by conservation practices and standards (e.g., environmental controls; long-range and emergency planning; funding and expenditures on collections; number of collections items and the state of each item). In addition to these core questions, supplemental questions may also be included.

Agency: Institute of Museum and Library Services.

Title: Heritage Health Index II on the State of America's Collections (HHI II).

OMB Number: To Be Determined.

Frequency: N/A.

Affected Public: The target population for the HHI II Survey is U.S. cultural heritage organizations, including libraries, museums, archives, and archaeological repositories. A national probability sample of institutions generated using available mailing lists will be employed by the survey. Individual survey respondents within selected institutions will be knowledgeable persons about collections care and practices.

Number of Respondents: 3,000.

Estimated Average Burden per Response: The burden per respondent is estimated to be an average of 45 minutes based on the size of the questionnaire.

Estimated Total Annual Burden: 2,250 hours.

Total Annualized capital/startup costs: n/a.

Total Annual costs: To be determined.

Public Comments Invited: Comments submitted in response to this notice will be summarized and/or included in the request for OMB's clearance of this information collection.

FOR FURTHER INFORMATION CONTACT: Christopher J. Reich, Senior Advisor, Institute of Museum and Library Services, 1800 M St., NW., 9th Floor, Washington, DC 20036. Mr. Reich can be reached by Telephone: 202-653-4685, Fax: 202-653-4608, or by email at creich@imls.gov, or by teletype (TTY/TDD) for persons with hearing difficulty at 202/653-4614. Office hours are from 8:30 a.m. to 5 p.m., E.T., Monday through Friday, except Federal holidays.

Dated: December 5, 2013.
Kim Miller,
Management Analyst.

[FR Doc. 2013-29455 Filed 12-9-13; 8:45 am]

BILLING CODE 7036-01-P